DEPARTMENT OF HEALTH AND HUMAN SERVICES

Centers for Disease Control and Prevention

Disease, Disability, and Injury Prevention and Control Special Emphasis Panel (SEP): Extended Work Schedules in the New Economy: Health and Safety Risks to Workers; RFA OH-01-006

In accordance with section 10(a)(2) of the Federal Advisory Committee Act (Pub. L. 92-463), the Centers for Disease Control and Prevention (CDC) announces the following meeting:

Name: Disease, Disability, and Injury Prevention and Control Special Emphasis Panel (SEP): Extended Work Schedules in the New Economy: Health and Safety Risks to Workers; RFA OH-01-006.

Times and Dates:8 a.m.-8:30 a.m., June 11, 2001. (Open) 8:30 a.m.-5 a.m., June 11, 2001. (Closed) 8:30 a.m.-5 a.m., June 12, 2001. (Closed)

Place: Sheraton Station Square, 7 Station Square Drive, Pittsburgh, PA 15219

Status: Portions of the meeting will be closed to the public in accordance with provisions set forth in section 552b(c) (4) and (6), Title 5 U.S.C., and the Determination of the Deputy Director for Program Management, CDC, pursuant to Public Law 92-463.

Matters to be Discussed: The meeting will include the review, discussion, and evaluation of applications received in response to Program Announcement: RFA OH-01-006.

For Further Information Contact: Pervis C. Major, Ph.D., Scientific Review Administrator, National Institute for Occupational Safety and Health, CDC, 1095 Willowdale Road, M/S B228, Morgantown, West Virginia 26505, telephone 304-285-5979.

The Director, Management Analysis and Services Office has been delegated the authority to sign Federal Register notices pertaining to announcements of meetings and other committee management activities, for both the Centers for Disease Control and Prevention and the Agency for Toxic Substances and Disease Registry.

Dated: May 21, 2001.
Carolyn J. Russell,
Director, Management Analysis and Service Office, Centers for Disease Control and Prevention (CDC).

[FR Doc. 01-13239 Filed 5-24-01; 8:45 am]

BILLING CODE 4163-19-M